SECURITIES AND EXCHANGE COMMISSION

17 CFR Parts 229 and 249

[Release No. 34-65508; File No. S7-40-10]

Roundtable on Issues Relating to Conflict Minerals

AGENCY: Securities and Exchange Commission.

ACTION: Notice of roundtable discussion; request for comment.

SUMMARY: On October 18, 2011, the Commission will hold a public roundtable at which invited participants will discuss various issues related to the Commission's required rulemaking under Section 1502 of the Dodd-Frank Wall Street Reform and Consumer Protection Act (the “Act”), which relates to reporting requirements regarding conflict minerals originating in the Democratic Republic of the Congo and adjoining countries. Roundtable panelists are expected to reflect the views of different constituencies, including investors, affected issuers, human rights organizations, and other stakeholders.

The roundtable will consist of a series of panels that are designed to provide a forum for various stakeholders to exchange views and provide input on issues related to the Commission's required rulemaking.

DATES: The roundtable discussion will take place on October 18, 2011. The Commission will accept comments regarding the issues to be addressed in the roundtable and otherwise regarding the proposed rule amendments until November 1, 2011.

ADDRESSES: The roundtable discussion will be held in the auditorium of the SEC's headquarters at 100 F Street, NE., Washington, DC on October 18, 2011 from 12:30 p.m. to approximately 5:15 p.m. The roundtable will be open to the public with seating on a first-come, first-served basis, and the discussion will also be available via webcast on the Commission's Web site at http://www.sec.gov. Comments may be submitted by any of the following methods:

Electronic Comments

• Use the Commission's Internet comment form at http://www.sec.gov/rules/other.shtml; or

• Send an e-mail to rule-comments@sec.gov.

Paper Comments

• Send paper comments in triplicate to Elizabeth M. Murphy, Secretary, Securities and Exchange Commission, 100 F Street, NE., Washington, DC 20549-1090.

All submissions should refer to File Number S7-40-10. This file number should be included on the subject line if e-mail is used. To help process and review your submissions more efficiently, please use only one method. The Commission will post all comments on the Commission's Web site at http://www.sec.gov. Comments will also be available for website viewing and copying in the Commission's Public Reference Room, 100 F Street, NE., Washington, DC 20549, on official business days between the hours of 10 a.m. and 3 p.m. All comments received will be posted without change; we do not edit personal identifying information from submissions. You should submit only information that you wish to make available publicly.

FOR FURTHER INFORMATION CONTACT: John Fieldsend, Special Counsel in the Office of Rulemaking, Division of Corporation Finance, at (202) 551-3430, 100 F Street, NE., Washington, DC 20549-3628.

SUPPLEMENTARY INFORMATION: Section 1502 of the Act amends the Securities Exchange Act by adding new Section 13(p). Section 13(p) requires the Commission to promulgate disclosure and reporting regulations regarding the use of conflict minerals from the Democratic Republic of the Congo and adjoining countries. On December 15, 2010, the Commission proposed rule amendments to implement Exchange Act Section 13(p).¹

¹ Conflict Minerals, Release No. 34-63547; File No. S7-40-10 (Dec. 23, 2010) [75 FR 80948].

The Commission has been asked to hold a roundtable discussion to facilitate its understanding of the issues surrounding conflict minerals. The Commission believes that additional public input on the proposed rulemaking would be beneficial in light of the particular subject matter.

Dated: October 6, 2011.
By the Commission.
Elizabeth M. Murphy,
Secretary.

[FR Doc. 2011-26431 Filed 10-12-11; 8:45 am]

BILLING CODE 8011-01-P